DEPARTMENT OF DEFENSE

Office of the Secretary

[Docket ID DOD-2009-OS-0099]

Privacy Act of 1974; Systems of Records

AGENCY: Defense Finance and Accounting Service, DoD.

ACTION: Notice to add a new system of records.

SUMMARY: The Defense Finance and Accounting Service (DFAS) is proposing to add a system of records notice to its inventory of record systems subject to the Privacy Act of 1974, (5 U.S.C. 552a), as amended.

DATES: This Action will be effective without further notice on August 10, 2009 unless comments are received that would result in a contrary determination.

ADDRESSES: Send comments to the FOIA/PA Program Manager, Corporate Communications, Defense Finance and Accounting Service, 8899 East 56th Street, Indianapolis, IN 46249-0150.

FOR FURTHER INFORMATION CONTACT: Ms. Linda Krabbenhoft at (720) 242-6631.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on June 29, 2009, to the House Committee on Government Reform, the Senate Committee on Governmental Affairs, and the Office of Management and Budget (OMB) pursuant to paragraph 4c of Appendix I to OMB Circular No. A-130, `Federal Agency Responsibilities for Maintaining Records About Individuals,' dated December 12, 2000, 65 FR 239.

Dated: July 7, 2009.
Morgan E. Frazier,
Alternate OSD Federal Register Liaison Officer, Department of Defense.

T7205a

System name:

Defense Business Management System (DBMS)

System location:

Defense Information Systems Agency (DISA), Defense Enterprise Computing Center (DECC)—Ogden; 7879 Wardleigh Road; Bldg 891, Hill Air Force Base, UT 84056-5997.

Categories of individuals covered by the system:

DoD civilian employees who are paid with Operations & Maintenance (O&M) or Working Capital Funds by the Defense Finance and Accounting Service.

Categories of records in the system:

Individual's name, address, telephone number, Social Security Number (SSN), appropriation, accounting, reimbursable billing, cost accounting, job order accounting data, and financial reports.

Authority for maintenance of the system:

5 U.S.C. 301, Departmental Regulations; 31 U.S.C. Chapter 35, Accounting & Collection; and E.O. 9397 (SSN).

Purpose(s):

The system will provide a means of reporting all costs entering the general ledger; account for appropriated funds; provide a means of reconciling financial records; and for the preparation of most financial reports. Records will be used for extraction or compilation of data and reports for management studies and statistical analyses for use internally or externally as required by Department of Defense (DoD) or other government agencies such as the Department of the Treasury.

Routine uses of records maintained in the systems including category's of users and the purposes of such uses:

In addition to those disclosures generally permitted under 5 U.S.C. 552a(b) of the Privacy Act of 1974, these records contained therein may specifically be disclosed outside the DoD as a routine use pursuant to 5 U.S.C. 552a(b)(3) as follows:

The Department of Treasury for all reporting purposes.

The DoD “Blanket Routine Uses” set forth at the beginning of the DoD compilation of systems of records notices apply to this system of records.

Policies and practices for storing, retrieving, accessing, retaining, and disposing of records in the system:

Storage:

Paper and/or electronic storage media.

Retrievability:

Name and Social Security Number (SSN).

Safeguards:

Records will be maintained in a controlled facility. Physical entry will be restricted by the use of locks, guards, and is accessible only to authorized personnel. Access to records will be limited to person(s) responsible for servicing the record in performance of their official duties and who are properly screened and cleared for need-to-know. Access to computerized data will be restricted by passwords, which are changed according to agency security policy.

Retention and disposal:

Records will be cut off at the end of fiscal year and destroyed 3 years after cutoff. Records are destroyed by tearing, shredding, pulping, macerating, burning, or degaussing the electronic media.

System manager(s) and address:

System Manager, Defense Finance and Accounting Service—Columbus, (DFAS-HTSEAA/CO), 3990 East Broad Street, Columbus, OH 43213-1152.

Notification procedure:

Individuals seeking to determine whether information about themselves is contained in this record system should address written inquiries to the Defense Finance and Accounting Service, Freedom of Information/Privacy Act Program Manager, Corporate Communications, 8899 East 56th Street, Indianapolis, IN 46249-0150.

Individuals should furnish full name, Social Security Number, current address, and telephone number.

Record access procedures:

Individuals seeking access to information about themselves contained in this record system should address written inquiries to Defense Finance and Accounting Service, Freedom of Information/Privacy Act Program Manager, Corporate Communications, 8899 East 56th Street, Indianapolis, IN 46249-0150.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications, 8899 East 56th Street, Indianapolis, IN 46249-0150.

Record source categories:

Information is obtained through system interface from the various DoD agencies including DFAS, Defense Logistics Agency, Defense Commissary Agency, Defense Contract Audit Agency, Defense Contract Management Agency and Naval Supply Systems Agency.

Exemptions claimed for the system:

None.

[FR Doc. E9-16376 Filed 7-9-09; 8:45 am]

BILLING CODE 5001-06-P